NATIONAL SCIENCE FOUNDATION

National Science Board: Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Wednesday, August 25, 2010, at 7:30 a.m.; and Thursday, August 26, 2010 at 7:30 a.m.

Place: National Science Foundation, 4201 Wilson Blvd., Rooms 1235 and 1295, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

Status: Some portions open, some portions closed.

Open Sessions

August 25, 2010

7:30 a.m.-7:35 a.m.

7:35 a.m.-9 a.m.

7:35 a.m.-9:30 a.m.

9 a.m.-12 p.m.

1 p.m.-1:30 p.m.

2:30 p.m.-3:30 p.m.

4 p.m.-6:15 p.m.

August 26, 2010

7:30 a.m.-9:05 a.m.

7:30 a.m.-8:45 a.m.

9:30 a.m.-10:45 a.m.

10:45 a.m.-11:30 a.m.

11:30 a.m.-12 p.m.

1:20 p.m.-3 p.m.

Closed Sessions

August 25, 2010

1:30 p.m.-2:30 p.m.

3:30 p.m.-4 p.m.

August 26, 2010

9:05 a.m.-9:30 a.m.

1 p.m.-1:20 p.m.

Updates: Please refer to the National Science Board Web site http://www.nsf.gov/nsb for additional information and schedule updates (time, place, subject matter or status of meeting) may be found at http://www.nsf.gov/nsb/notices/.

Agency Contact: Jennie L. Moehlmann, jmoehlma@nsf.gov, (703) 292-7000.

Public Affairs Contact: Dana Topousis, dtopousi@nsf.gov, (703) 292-7750.

Matters to be Discussed:

Wednesday, August 25, 2010

Chairman's Introduction

Open Session: 7:30 a.m.-7:35 a.m., Room 1235

Committee on Programs and Plans (CPP)

Open Session: 7:35 a.m.-12 p.m., Room 1235

• Chairman's Remarks.

• Approval of Minutes.

○ February 3, 2010 CPP-CSB Joint Session Minutes.

○ May 5, 2010 CPP Minutes.

• Subcommittee on Polar Issues (SOPI)

○ SOPI Chairman's Remarks.

○ U.S. Antarctic Program Review.

▪ Polar Research Vessel Support.

○ OPP Director's Report.

• Committee Chairman's Remarks.

○ Reference Written Information Items.

▪ NSB Information Item: NSF Director's Determination of Satisfactory Progress in the Management of the National Radio Astronomy Observatory by Associated Universities, Inc.

▪ NSB Information Item: Update on DataNet Awards to Johns Hopkins University and the University of New Mexico.

▪ NSB Information Item: High Performance Computing Update: National Institute for Computational Sciences, University of Tennessee, Knoxville.

▪ NSB Information Item: Update on Implementation of NSF's Revised Cost Sharing Policy in Response to the 2nd NSB Cost Sharing Report.

○ Other Items:

▪ Status of DataNet Awards.

• Discussion Item: Review of NSB Policy on Threshold for Awards Requiring NSB Approval.

• NSB Discussion and Information Items: NSB Recompetition Policy Implementation.

○ NSB Discussion Item: Report on Recompetition Policy Implementation.

○ NSB Information Item: Plan for Terminal Award to Michigan State University for Support of the Operations of the National Superconducting Cyclotron Laboratory (NSCL).

○ NSB Information Item: Plan to Recompete the Management of the National High Magnetic Field Laboratory (NHMFL).

○ NSB Discussion.

• NSB Discussion Item: Strategic Planning for Cyberinfrastructure.

• NSB Information Item: LIGO: Possible Additional AdvLIGO Site.

• NSB Information Item: Gemini Extension of Cooperative Agreement.

• NSB Information Item: Renewal of Science of Learning Centers.

• NSB Information Item: Arctic Logistics Contract.

Open Session: 1 p.m.-1:30 p.m., Room 1235

• Task Force on Support of Mid-Scale and Multi-Investigator Research (MS)

○ Task Force Chairman's Remarks.

○ Discussion and Approval of Charge.

○ Discussion of Information Gathering.

Closed Session: 1:30 p.m.-2:30 p.m., Room 1235

• Committee Chairman's Remarks.

• NSB Information Item: Update on High Performance Computing Awards.

• NSB Information Item: Update on DUSEL.

Committee on Strategy and Budget (CSB)

Open Session: 7:35 a.m.-9:30 a.m., Room 1295

• Task Force on Data Policies

○ Task Force on Data Policies Chairman's Remarks.

○ Update from NSF on its policy and implementation.

○ Review, Discussion and Approval of Charge and Work Plan from May 5, 2010 Meeting.

○ Discussion of Statement of Principles.

○ Discussion of Workshop, to be held in Winter 2011.

○ Closing Remarks.

Committee on Audit and Oversight (A&O)

Open Session: 2:30 p.m.-3:30 p.m., Room 1235

• Approval of Minutes, May 4, 2010 Meeting and August 20, 2010 Closed Teleconference.

• Committee Chairman's Opening Remarks.

• Human Resources Update.

• Chief Financial Officer's Update.

• Inspector General's Update.

• Future NSF Update.

• Review of NSB Policy on Award Threshold Requiring NSB Approval.

• Committee Chairman's Closing Remarks.

Closed Session 3:30 p.m.-4 p.m., Room 1235

• Committee Chair's Opening Remarks.

• Procurement Activities.

Committee on Science and Engineering Indicators (SEI)

Open Session: 4 p.m.-6:15 p.m., Room 1235

• Approval of May Minutes.

• Chairman's Remarks.

• Overview of the Process for Producing Science and Engineering Indicators 2012 and the Committee's Role.

• Key Board Dates and Activities for Production of Science and Engineering Indicators 2012.

• Introduction of Chapter Authors and Discussion of Science and Engineering Indicators 2012 Narrative Chapter Outlines.

• Indicators Education Tool.

• Indicators-related Products.

• Chairman's summary.

Thursday, August 26, 2010

Committee on Strategy and Budget (CSB)

Open Session: 7:30 a.m.-9:05 a.m., Room 1235

• Subcommittee on Facilities (SCF).

○ Approval of SCF Meeting Minutes, June 29, 2010.

○ SCF Chairman's Remarks.

○ Discussion on the Outcome of June 29, 2010 Meeting with NSF Assistant Directors and Other NSF Staff.

○ Status Report: Principles for Research Infrastructure.

○ Next Steps.

• Approval of the Minutes of the May 2010 Meeting.

• Approval of Minutes of the August 20, 2010 CSB Teleconference.

• Committee Chairman's Remarks.

• NSF Strategic Plan.

• NSB Budget.

• Closing Remarks.

Closed Session: 9:05 a.m.-9:30 a.m., Room 1235

• NSF FY 2012 Budget.

Task Force on Merit Review (MR)

Open Session: 7:30 a.m.-8:45 a.m., Room 1295

• Approval of Minutes from May 5, 2010 Meeting.

• Approval of Minutes from July 28, 2010 Teleconference.

• Task Force Chairman's Remarks.

• Discussion of Status of Data-Gathering Activities.

○ COV Report Text-Mining.

○ Design of Research Questions for External Input.

○ SBE/CISE Text-Mining Projects.

○ Using a Blog for Informal Input.

Committee on Education and Human Resources (CEH)

Open Session: 9:30 a.m.-10:45 a.m., Room 1235

• Approval of May 2010 Minutes.

• Next Generation of STEM Innovators Report—Public Release and Post-Release Plans.

• NSF Education Research Agenda.

○ Decadal Study Update.

○ Education and Human Resources (EHR) Research Vision.

• Other Committee Business.

Committee on Science and Engineering Indicators (SEI)

Open Session: 10:45 a.m.-11:30 a.m., Room 1235

• Key Board Dates and Activities for Production of Science and Engineering Indicators 2012.

• Introduction of Chapter Authors and Discussion of Science and Engineering Indicators 2012. Narrative Chapter Outlines.

• Indicators Education Tool.

• Indicators-related Products.

• Chairman's summary.

Plenary Open

Open Session: 11:30 a.m.-12 p.m., Room 1235

• Presentation by 60th Anniversary Distinguished Speaker, Luis von Ahn.

Plenary Closed

Closed Session: 1 p.m.-1:20 p.m., Room 1235

• Approval of Closed Session Minutes, May 2010.

• Closed Committee Reports.

Plenary Open

Open Session: 1:20 p.m.-3 p.m., Room 1235

• Director's Award for Collaborative Integration.

• Demonstration of Science, Engineering, and Education (SEE) Innovation Web Site.

• Presentation on STAR METRICS.

• Approval of Open Session Minutes, May 2010.

• Chairman's Report.

• Director's Report.

• Open Committee Reports.

Daniel A. Lauretano,
Counsel to the National Science Board.

[FR Doc. 2010-20660 Filed 8-17-10; 11:15 am]

BILLING CODE 7555-01-P